SMALL BUSINESS ADMINISTRATION

[Disaster Declaration #20701 and #20702; NORTH CAROLINA Disaster Number NC-20007]

Presidential Declaration Amendment of a Major Disaster for the State of North Carolina

AGENCY: Small Business Administration.

ACTION: Amendment 2.

SUMMARY: This is an amendment of the Presidential declaration of a major disaster for the State of North Carolina (FEMA-4827-DR), dated 09/28/2024.

Incident: Tropical Storm Helene.

Incident Period: 09/25/2024 and continuing.

DATES: Issued on 10/15/2024.

Physical Loan Application Deadline Date: 11/27/2024.

Economic Injury (EIDL) Loan Application Deadline Date: 06/30/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of North Carolina, dated 09/28/2024, is hereby amended to include the following areas as adversely affected by the disaster:

Primary Counties (Physical Damage and Economic Injury Loans): Cabarrus, Cherokee, Forsyth, Graham, Iredell, Lee, Nash, Rowan, Stanly, Surry, Union, Yadkin.

Contiguous Counties (Economic Injury Loans Only):

North Carolina: Anson, Chatham, Davidson, Davie, Edgecombe, Franklin, Guilford, Halifax, Harnett, Johnston, Montgomery, Moore, Richmond, Rockingham, Stokes, Wake, Warren, Wilson.

Tennessee: Monroe, Polk.

South Carolina: Chesterfield.

Virginia: Carroll, Patrick.

Georgia: Fannin.

All other information in the original declaration remains unchanged.

(Catalog of Federal Domestic Assistance Number 59008)

Rafaela Monchek,
Deputy Associate Administrator, Office of Disaster Recovery & Resilience.

[FR Doc. 2024-24396 Filed 10-21-24; 8:45 am]

BILLING CODE 8026-09-P